CONSUMER PRODUCT SAFETY COMMISSION

16 CFR Chapter II

[Docket No. CPSC-2016-0019]

Petition To Amend Statement of Interpretation and Enforcement Policy Regarding Labeling of Household Products Containing Methylene Chloride; Request for Comments

AGENCY: Consumer Product Safety Commission.

ACTION: Notice of petition.

SUMMARY: The United States Consumer Product Safety Commission (CPSC or Commission) received a petition requesting that the Commission amend the agency's 1987 Statement of Interpretation and Enforcement Policy regarding labeling of household products containing methylene chloride (Policy Statement). The petition asks the Commission to expand the Policy Statement to address acute hazards from inhalation of methylene chloride vapors in addition to the chronic hazards addressed by the current Policy Statement. The Commission invites written comments concerning the petition.

DATES: The Office of the Secretary must receive comments on the petition by October 31, 2016.

ADDRESSES: You may submit comments, identified by Docket No. CPSC-2016-0019, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this proposed rulemaking. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2016-0019, into the “Search” box, and follow the prompts. A copy of the petition is available at http://www.regulations.gov under Docket No. CPSC-2016-0019, Supporting and Related Materials.

FOR FURTHER INFORMATION CONTACT: Todd Stevenson, Office of the Secretary, U.S. Consumer Product Safety Commission, Room 820, 4330 East West Highway, Bethesda, MD 20814; telephone (301) 504-6833.

SUPPLEMENTARY INFORMATION: The Commission received a petition from the Halogenated Solvents Industry Alliance, Inc. (Petitioner) requesting that the Commission amend the agency's Statement of Interpretation and Enforcement Policy regarding labeling of household products containing methylene chloride (Policy Statement). The Policy Statement provides the Commission's guidance for labeling of household products containing methylene chloride, focusing particularly on paint strippers. 52 FR 34698 (Sep. 14, 1987). The Policy Statement sets forth general principles and examples for labeling to warn consumers of potential cancer hazards; it does not address acute hazards.

The Petitioner asks the Commission to expand the Policy Statement to address acute hazards from inhalation of methylene chloride vapors. Petitioner notes that the Occupational Safety and Health Administration (OSHA) and the National Institute for Occupational Safety and Health (NIOSH) issued a Hazard Alert identifying at least 14 deaths associated with use of methylene chloride-containing paint strippers by professional bathtub refinishing operations (https://www.osha.gov/dts/hazardalerts/methylene_chloride_hazard_alert.html). Although the Petitioner refers to incidents involving workers, as the Commission's Policy Statement indicates, methylene chloride paint strippers are household products available for consumers to purchase and use. Petitioner asserts that revising the Policy Statement to give specific guidance on labeling for the acute hazard posed by inhalation of methylene chloride vapors, particularly when used in an enclosed space, such as when refinishing bathtubs, would help to prevent future fatalities.

By this notice, the Commission seeks comments concerning this petition. Interested parties may obtain a copy of the petition from the Commission's Web site: http://www.cpsc.gov/Regulations-Laws--Standards/Rulemaking/Petitions/ or by writing or calling the Office of the Secretary, U.S. Consumer Product Safety Commission, Room 820, 4330 East West Highway, Bethesda, MD 20814; telephone (301) 504-7923. A copy of the petition is also available for viewing under “Supporting and Related Materials” in: www.regulations.gov, under Docket No. CPSC-2016-0019 .

Dated: August 2, 2016.
Todd A. Stevenson,
Secretary, U.S. Consumer Product Safety Commission.

[FR Doc. 2016-20928 Filed 8-31-16; 8:45 am]

BILLING CODE 6355-01-P